FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR Part 515).

Persons knowing of any reason why the following applicants should not receive a license are requested to contact the Office of Transportation Intermediaries, Federal Maritime Commission, Washington, DC 20573.

Non-Vessel Operating Common Carrier Ocean Transportation Intermediary Applicant:

Ltd. Interbrok Service, Didi Dighomi, III m b. Bldg. #6, Appt. #71, Tbilisi, Republic of Georgia 0183, Officer: David Nikiolaishvili, Director (Qualifying Individual).

Global American Line, 1421 Witherspoon Street, Rahway, NJ 07065, Officer: Wajid Ali, Sen. Vice President (Qualifying Individual).

JB Cargo, LLC., 1559 East Amar Road, Ste. J, West Covina, CA 91792, Officer: Simis-Emista P. Baquiran, Member Manager (Qualifying Individual).

Prologistics Inc., 9715 Carnegie Ave., El Paso, TX 79925, Officers: Carol A. Runnels, President, (Qualifying Individual) James S. Runnels, Vice President.

Worldwide Int'l Logistics Inc., 108 S. Franklin Ave., Ste. 17, Valley Stream, NY 11580, Officer: Bonnie Yang, Vice President (Qualifying Individual).

Champion Xpress Shipping Inc., 106-13 Liberty Ave., Ozone Park, NY 11417, Officer: Joel M. Perry, President (Qualifying Individual).

Ace Cargo International Inc., 11099 S. La Cienega Blvd., #265, Los Angeles, CA 90045, Officer: Bryan Choi, Vice President (Qualifying Individual).

ASL Global Logistics, 15836 Lee Road, Houston, TX 77032, Officers: Nidal Younes, Logistics Manager (Qualifying Individual), Wassim A. Agha, President.

Jude Shipping Line L.L.C., 1743 Park Center Drive, Orlando, FL 32835, Officers: Timothy A. Voit, Managing Member (Qualifying Individual), Fouad Ashdji, Managing Member.

AMA Freight USA LLC, 12290 Rojas Dr., #C, El Paso, TX 79936, Officers: Sergio Fernandez de Lara Mendoza, V. President (Qualifying Individual), Robert McLane, President.

Prestige Investment Group, Inc. dba Car-tainer, Inc., 4141 West 154th Street, Lawndale, CA 90260, Officers: Nadya Wilkinson, President (Qualifying Individual), LaFarria J. Wilkinson, Treasurer.

American NAV International Inc. dba Amerussia Shipping Company, 51 Chestnut Street, Rutherford, NJ 07070, Officer: Richard F. Shannon, President (Qualifying Individual).

Freightplus (USA), Inc., 4466 Karls Gate Drive, Marietta, GA 30068, Officers: Christopher J. Katcher, Secretary (Qualifying Individual), Steven Townsend, CEO.

Non-Vessel Operating Common Carrier and Ocean Freight Forwarder Transportation Intermediary Applicants

Ice International, Inc., 725 Opportunity Drive, St. Cloud, MN 56301, Officers: Joseph M. Goering, Vice President, (Qualifying Individual), Rollie H. Anderson, President.

Concert Group Logistics, Inc., 1430 Branding Ave., Ste. 150, Downers Grove, IL 60515, Officer: Gerald Post, Exec. Vice President (Qualifying Individual).

Dependable Global Express, Inc., 19201 S. Susana Road, Rancho Dominguez, CA 90221, Officers: Bradley J. Dechter, President (Qualifying Individual), Ronald E. Massman, CEO.

Royalty Eximport, Inc., 8422 NW 70th Street, Miami, FL 33166, Officers: Clara L. Suarez, Vice President (Qualifying Individual), Gonzalo Rodriguez, President.

International Express Shipping Inc., 3825 Gatlin Place Cir., Orlando, FL 32812, Officer: Ghassan L. Elkabat, President (Qualifying Individual).

Latek Logistics USA, Inc., 175-18 147th Avenue, Jamaica, NY 11434, Officer: Kagan Bas, Secretary (Qualifying Individual).

DLS Cargo, Inc., 10900 NW 21st Street, #230, Doral, FL 33172, Officers: Arlene Cabrera, Vice President (Qualifying Individual), Efrain D. Santos, President.

Broker Landmar Corp, 12938 SW 133 Ct., Miami, FL 33186, Officers: Melinda Memoli, Vice President (Qualifying Individual), Rafael A. Apitz Dorante, President.

Darpex Import/Export Corporation, 8225 NW 80th Street, Miami, FL 33166, Officer: Dario A. Pereyra, President (Qualifying Individual).

Can-Med Lines (USA) Inc., 184 Hebberd Avenue, Paramus, NJ 07652, Officer: Elie M. Ibrahim, President (Qualifying Individual).

GLY Expo Logistics Inc., 200 West Devon Ave., Ste. 5, Bensenville, IL 60106, Officer: George Yao, President (Qualifying Individual).

Global Market Expres Corporation, 5055 NW 74th Ave., Suite 8, Miami, FL 33166, Officers: Yanio Bueno, Traffic Manager (Qualifying Individual), Carmen Z. Blanco, President.

BC Worldwide Logistics Inc., 12006 Scarlet Oak Trail, Conroe, TX 77385, Officers: Phong Vuong, President (Qualifying Individual), Lisa Vuong, Vice President.

Johanson Transportation Service, 5583 E. Olive, Fresno, CA 93727, Officers: Carrie Timmerman, Corp. Branch Manager (Qualifying Individual), Larry Johanson, President.

Champion Cargo Corporation dba Wealthline Freight Fowarders Corp., Easyglide Corp., 3529 NW 82 Ave., Doral, FL 33122, Officers: Robert J. Miessler, President (Qualifying Individual), Sandra C. Miessler, Vice President.

ICL USA, Inc., 230-79 International Airport Center Blvd., Suite 500, Jamaica, NY 11413, Officer: David Eshel, President (Qualifying Individual).

Superior Shipping Inc., 38 East 3rd Street, Mount Vernon, NY 10550, Officers: Rudolph Foster, President (Qualifying Individual), Alexcia Foster, Vice President.

T.V.L. Global Logistics Corp., 1322 N. San Gabriel Blvd., Rosemead, CA 91770. Officers: Kit Fong Lai, Ocean Import Manager, Tony Lu, Vice President (Qualifying Individuals), Chuang-Hsing Chueh, President.

Northwestern Shipping and Transportation Ltd, 606 Oriole Blvd., #100, Duncanville, TX 75116, Officers: Jackson C. Ehioguh, President (Qualifying Individual), Leo Uzoechi, Corp. Secretary.

GM International Freight Forwarders Corp., 8438 NW 66 Street, Miami, FL 33166, Officer: Guillermo Lopez, President (Qualifying Individual).

Saia Moto Freight Line, LLC, 11465 Johns Creek Parkway, Ste. 400, Duluth, GA 30097, Officer: Tony Albanese, Sen. Vice President (Qualifying Individual).

Ocean Freight Forwarder—Ocean Transportation Intermediary Applicants

Ocean X-Ing SVC, Inc., 159 Rookery Road, Naples, FL 34114, Officers: Alexander Vasiliyev, President (Qualifying Individual), Olesya Vasiliyeva, Vice President.

Up South, Inc., 129 S.E. 6th Ave., Deefield Beach, FL 33441, Officers: Maria Gomez-Sanchez, President (Qualifying Individual), Nicolas Caballero, Vice President.

International Business Cargo, Corp., 5151 NW 74th Ave., Miami, FL 33166, Officer: Kathy Castillo, President (Qualifying Individual).

Genesis Freight Forwarding Services, Inc., 2601 Greenleaf Avenue, Elk Grove Village, IL 60007. Officer: Karen L. Sedor, V. President Oper. (Qualifying Individual).

Boxer Freight, Inc., 7343 W. Friendly Ave., Ste. C, Greenboro, NC 27410, Officers: Jeffrey Parrett, President (Qualifying Individual), Brandin E. Wrisley, Vice President.

Genesis Forwarding Services NY, Inc., 2601 Greenleaf Avenue, Elk Grove Village, IL 60007, Officer: Karen L. Sedor, V. President Oper. (Qualifying Individual).

Genesis Forwarding Services VA, Inc. dba Genesis Container Lines, 2601 Greenleaf Avenue, Elk Grove Village, IL 60007. Officer: Karen L. Sedor, V. President Oper. (Qualifying Individual).

Genesis Forwarding Services CA, Inc. dba Genesis Container Lines, 2601 Greenleaf Avenue, Elk Grove Village, IL 60007. Officer: Karen L. Sedor, V. President Opera (Qualifying Individual).

Dated: August 22, 2008.
Karen V. Gregory,
Assistant Secretary.

[FR Doc. E8-19867 Filed 8-26-08; 8:45 am]

BILLING CODE 6730-01-P